DEPARTMENT OF TRANSPORTATION

Federal Highway Administration (FHWA)

Notice of Intent To Prepare an Environmental Impact Statement: Milwaukee County

AGENCY: Federal Highway Administration (FHWA), DOT.

ACTION: Notice of Intent.

SUMMARY: The FHWA is issuing this notice to advise the public that an Environmental Impact Statement (EIS) will be prepared for a proposed freeway corridor improvement project on I-94 in Milwaukee County, Wisconsin.

FOR FURTHER INFORMATION CONTACT: Bethaney Bacher-Gresock, Environmental Major Projects Manager, FHWA Wisconsin Division Office, City Center West, 525 Junction Road, Suite 8000, Madison, WI 53717; Telephone: (608) 662-2119.

SUPPLEMENTARY INFORMATION: The FHWA, in cooperation with the Wisconsin Department of Transportation (WisDOT), will prepare an Environmental Impact Statement (EIS) for proposed improvements in the I-94 corridor in Milwaukee County, WI. The purpose of the project is to replace deteriorating pavement and bridges and improve safety, while identifying methods to accommodate existing and projected future traffic volumes; this may result in the full reconstruction and redesign of the I-94 corridor. The EIS will evaluate I-94 between 70th Street on the west and 25th Street on the east (2.85 miles). The EIS will also evaluate interchanges with I-94 at 68th Street/70th Street, Hawley Road, Mitchell Boulevard, U.S. 41/STH 341 (Stadium Interchange), 35th Street and 26th Street/Saint Paul Avenue as well as U.S. 41 at Wisconsin Avenue/Wells Street. The EIS will be developed in accordance with 23 U.S.C. 139, 23 CFR 771, and 40 CFR 1500-1508.

Public involvement is a critical component of the National Environmental Policy Act (NEPA) project development process and will occur throughout the development of the EIS. The EIS will be made available for review by federal and state resource agencies and the public. Specific efforts to encourage involvement by, and solicit comments from, minority and low-income populations in the project study area will be made. A series of public information meetings will be held during the project study. Public notice will be given as to the time and place of all workshops and public information meetings. In addition, a public hearing will be held after the completion of the Draft EIS. Inquiries related to the I-94 East-West Corridor Study can be sent to DOTI94EastWest@dot.wi.gov, and a public Web site will be maintained throughout the study for public comment and information at http://www.sefreeways.org. To ensure that the full range of issues related to this proposed action are addressed and all significant issues identified, comments and suggestions are invited from all interested parties. Comments and questions concerning the proposed action and the EIS should be directed to the FHWA address provided above.

Projects receiving Federal funds must comply with Title VI of the Civil Rights Act and Executive Order 12898 Federal Actions to Address Environmental Justice in Minority and Low-Income Populations. Federal law prohibits discrimination on the basis of race, color, age, sex, or country of national origin in the implementation of this project. It is also Federal policy to identify and address any disproportionately high and adverse effects of federal projects on the health or environment of minority and low-income populations to the greatest extent practicable and permitted by law.

(Catalog of Federal Domestic Assistance Program Number 20.205, Highway Planning and Construction. The regulations implementing Executive Order 12372 regarding intergovernmental consultation on Federal programs and activities apply to this program).

Issued on: May 10, 2012.
Bethaney Bacher-Gresock,
Environmental Major Projects Manager, Federal Highway Administration, Madison Wisconsin.

[FR Doc. 2012-12086 Filed 5-17-12; 8:45 am]

BILLING CODE 4910-22-P